DEPARTMENT OF THE TREASURY

Agency Information Collection Activities; Submission for OMB Review; Comment Request; Importer's Records and Reports

AGENCY: Departmental Offices, Department of the Treasury.

ACTION: Notice of information collection; request for comment.

SUMMARY: The Department of the Treasury will submit the following information collection request to the Office of Management and Budget (OMB) for review and clearance in accordance with the Paperwork Reduction Act of 1995, on or after the date of publication of this notice. The public is invited to submit comments on this request.

DATES: Comments should be received on or before April 24, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Alcohol and Tobacco Tax and Trade Bureau (TTB)

Title: Importer's Records and Reports.

OMB Control Number: 1513-0064.

Type of Review: Extension without change of a currently approved collection.

Description: Pursuant to chapters 51 and 52 of the Internal Revenue Code (IRC, 26 U.S.C.) and the Federal Alcohol Administration Act (FAA Act, 27 U.S.C. 201 et seq.), TTB regulates, among other things, the importation of alcohol and tobacco products. Under those statutory authorities, TTB has issued regulations in 27 CFR requiring importers of alcohol and tobacco products to provide certain information regarding their identity, TTB-issued permits, the identity and amount products imported, and the taxes paid on those products or, for products released from customs custody without payment of tax, the transfer of such products to a bonded facility. TTB also uses the collected information to ensure that imported alcohol beverage labels comply with FAA Act labeling requirements. Under this information collection, importers generally submit the required information electronically to Customs and Border Protection during the import entry process, and the required information is then electronically transmitted to TTB. In addition, importers may submit letterhead applications to TTB to request variances from established regulatory provisions. The collected import data and letterhead variance information are necessary to protect the revenue and ensure that importers comply with Federal laws and regulations regarding alcohol and tobacco products or that proposed alternatives will not pose a burden to TTB in administrating its import regulations.

Form: None.

Affected Public: Businesses or other for-profits.

Estimated Number of Respondents: 10,550.

Frequency of Response: On occasion.

Estimated Total Number of Annual Responses: 63,300.

Estimated Time per Response: 20 minutes.

Estimated Total Annual Burden Hours: 21,100.

Authority: 44 U.S.C. 3501 et seq.

Spencer W. Clark,
Treasury PRA Clearance Officer.

[FR Doc. 2024-06159 Filed 3-22-24; 8:45 am]

BILLING CODE 4810-31-P